DEPARTMENT OF TRANSPORTATION

Federal Aviation Administration

14 CFR Part 39

[Docket No. FAA-2013-0672; Directorate Identifier 2013-NM-058-AD]

RIN 2120-AA64

Airworthiness Directives; the Boeing Company Airplanes

AGENCY: Federal Aviation Administration (FAA), DOT.

ACTION: Supplemental notice of proposed rulemaking (NPRM); reopening of comment period.

SUMMARY: We are revising an earlier proposed airworthiness directive (AD) for certain The Boeing Company Model 767-200, -300, -300F, and -400ER airplanes. The NPRM proposed to require an inspection of the wing fuel tank access doors to determine whether impact-resistant access doors are installed in the correct locations, and to replace incorrectly installed doors with impact-resistant access doors. The NPRM also proposed to require an inspection for stencils and index markers on impact-resistant access doors, and application of new stencils or index markers if necessary. In addition, the NPRM proposed to require revising the maintenance program to incorporate changes to the airworthiness limitations section. The NPRM was prompted by reports indicating that a standard access door was located where an impact-resistant access door was required, and stencils were missing from some impact-resistant access doors. This action revises the NPRM by adding airplanes to the applicability. We are proposing this supplemental NPRM (SNPRM) to prevent foreign object penetration of the fuel tank from uncontained engine failure or tire debris, which could cause a fuel leak near an ignition source (e.g., hot brakes or engine exhaust nozzle), consequently leading to a fuel-fed fire. Since these actions impose an additional burden over that proposed in the NPRM, we are reopening the comment period to allow the public the chance to comment on these proposed changes.

DATES: We must receive comments on this SNPRM by August 18, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0672; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Suzanne Lucier, Aerospace Engineer, Propulsion Branch, ANM-140S, FAA, Seattle Aircraft Certification Office, 1601 Lind Avenue SW., Renton, WA 98057-3356; phone: 425-917-6438; fax: 425-917-6590; email: suzanne.lucier@faa.gov.

SUPPLEMENTARY INFORMATION:

Comments Invited

We invite you to send any written relevant data, views, or arguments about this proposed AD. Send your comments to an address listed under the ADDRESSES section. Include “Docket No. FAA-2013-0672; Directorate Identifier 2013-NM-058-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 by adding an AD that would apply to The Boeing Company Model 767-200, -300, -300F, and -400ER series airplanes. The NPRM published in the Federal Register on August 12, 2013 (78 FR 48826). The NPRM proposed to require an inspection of the left- and right-hand wing fuel tank access doors to determine whether impact-resistant access doors are installed in the correct locations, and to replace incorrectly installed doors with impact-resistant access doors. The NPRM also proposed to require an inspection for stencils and index markers on impact-resistant access doors, and application of new stencils or index markers if necessary. In addition, the NPRM proposed to require revising the maintenance program to incorporate changes to the airworthiness limitations section.

Actions Since NPRM (78 FR 48826, August 12, 2013) Was Issued

Since we issued the NPRM (78 FR 48826, August 12, 2013), we have determined that more airplanes are subject to the unsafe condition. This includes all airplanes delivered prior to the release of the critical design configuration control limitation (CDCCL) Task 57-AWL-01, “Impact-Resistant Fuel Tank Access Door,” of Section 9, Airworthiness Limitations (AWLs) and Certification Maintenance Requirements (CMRs) of Boeing 767 Maintenance Planning Data Document D622T001-9, Revision January 2013.

Comments

We gave the public the opportunity to comment on the NPRM (78 FR 48826, August 12, 2013). The following presents the comments received on the NPRM and the FAA's response to each comment.

Request To Include Revised Service Information

Boeing requested that we revise the NPRM (78 FR 48826, August 12, 2013) to include Boeing Service Bulletin 767-28-0105, Revision 1, dated February 6, 2013, which revises the applicability from line numbers 1 through 984 to line numbers 1 through 1039. This will include all airplanes delivered prior to the release of the Maintenance Planning Data (MPD) update to contain CDCCL Task 57-AWL-01, “Impact-Resistant Fuel Tank Access Door,” of Section 9, Airworthiness Limitations (AWLs) and Certification Maintenance Requirements (CMRs) of Boeing 767 Maintenance Planning Data Document D622T001-9, Revision October 2012, which makes sure the impact-resistant access doors are installed at the correct locations per ongoing maintenance actions.

We agree with the request to include Boeing Service Bulletin 767-28-0105, Revision 1, dated February 6, 2013, in this SNPRM. The references specified in paragraphs (c) and (g) of this SNPRM have been revised accordingly. We have also added new paragraph (j) to this SNPRM to provide credit for actions required by paragraph (g) of this SNPRM using Boeing Service Bulletin 767-28-0105, dated January 12, 2012. In addition, we have re-designated the subsequent paragraphs accordingly. For information on the procedures and compliance times, see this service information at http://www.regulations.gov by searching for Docket No. FAA-2013-0672.

Request To Withdraw the NPRM (78 FR 48826, August 12, 2013)

American Airlines (AAL) requested that the NPRM (78 FR 48826, August 12, 2013) be withdrawn. AAL stated that the NPRM is unnecessary and redundant due to existing mandated actions. AAL stated that AD 2008-11-01, Amendment 39-15523 (73 FR 29414, May 21, 2008), requires the incorporation of CDCCL Task 57-AWL-01, “Impact-Resistant Fuel Tank Access Door,” of Section 9, Airworthiness Limitations (AWLs) and Certification Maintenance Requirements (CMRs) of Boeing 767 Maintenance Planning Data Document D622T001-9, Revision October 2012, which is also proposed for incorporation by the NPRM. AAL stated that due to the presence of Subsection D in Section 9, the subsequent revisions and FAA approvals of Section 9 have already mandated that AAL's maintenance program include the requirements of CDCCL 57-AWL-01. Similarly AAL stated that the requirements of AD 2010-06-10, Amendment 39-16234 (75 FR 15322, March 29, 2010); and AD 2011-25-05, Amendment 39-16881 (77 FR 2442, January 18, 2012); also make this NPRM unnecessary.

We disagree with the request to withdraw the NPRM (78 FR 48826, August 12, 2013). The three ADs the commenter specified do not require incorporating CDCCL 57-AWL-01. However, we acknowledge that subsequent alternative methods of compliance (AMOCs) to those ADs could lead to incorporation of Subsection D of Section 9 because AMOCs written to allow use of subsequent revisions of MPD Section 9 were also written to require complete incorporation of the later publication of Section 9, Subsection D, into the maintenance program. Incorporation of AMOCs to other ADs, which is the mechanism leading to full incorporation of Subsection D, is voluntary by the operator. Without an AD to require this AWL task, an operator would only be required to comply with ADs that do not require incorporation of this task.

We have added new paragraph (k)(4) to this SNPRM to allow AMOCs approved after November 2, 2012, for AD 2008-11-01 R1, Amendment 39-16145 (74 FR 68515, December 28, 2009); AD 2010-06-10, Amendment 39-16234 (75 FR 15322, March 29, 2010); and AD 2011-25-05, Amendment 39-16881 (77 FR 2442, January 18, 2012); to be approved as AMOCs for the corresponding provisions of paragraph (h) of this SNPRM.

Request To Allow Credit

AAL requested that we allow credit for maintenance tasks already incorporated to satisfy the requirements of CDCCL Task 57-AWL-01, “Impact-Resistant Fuel Tank Access Door,” of Section 9, Airworthiness Limitations (AWLs) and Certification Maintenance Requirements (CMRs) of Boeing 767 Maintenance Planning Data Document D622T001-9, Revision October 2012. AAL stated that during its maintenance check schedule it verified that the panels are impact resistant and were inspected for correct markings, which satisfies the actions required by the NPRM (78 FR 48826, August 12, 2013).

We agree to allow credit for actions accomplished using CDCCL Task 57-AWL-01, “Impact-Resistant Fuel Tank Access Door,” of Section 9, Airworthiness Limitations (AWLs) and Certification Maintenance Requirements (CMRs) of Boeing 767 Maintenance Planning Data Document D622T001-9, Revision October 2012. Paragraph (f) of this SNPRM would require compliance within the compliance times specified, unless already done; therefore, no change has been made to this SNPRM in this regard.

Supplemental Type Certificate (STC) Winglet Comment for ST01920SE

Aviation Partners Boeing stated that the installation of winglets per STC ST01920SE (http://rgl.faa.gov/Regulatory_and_Guidance_Library/rgstc.nsf/0/59027F43B9A7486E86257B1D006591EE?OpenDocument&Highlight=st01920se) does not affect the accomplishment of the manufacturer's service instructions.

Clarification of Unsafe Condition

We have clarified the unsafe condition specified in the SUMMARY and paragraph (e) of this SNPRM by adding the text, “from uncontained engine failure or tire debris.”

FAA's Determination

We are proposing this SNPRM because we evaluated all the relevant information and determined the unsafe condition described previously is likely to exist or develop in other products of the same type design. Certain changes described above expand the scope of the NPRM (78 FR 48826, August 12, 2013). As a result, we have determined that it is necessary to reopen the comment period to provide additional opportunity for the public to comment on this SNPRM.

Proposed Requirements of This SNPRM

This SNPRM would require accomplishing the actions specified in the service information identified previously. This SNPRM would add airplanes to the applicability.

Costs of Compliance

We estimate that this proposed AD affects 436 airplanes of U.S. registry. We estimate the following costs to comply with this proposed AD:

Estimated Costs
Action | Labor cost | Parts cost | Cost per product | Cost on U.S. operators
Inspection | Up to 7 work-hours × $85 per hour = $595 | $0 | $595 | $259,420
Maintenance program revision | 1 work-hour × $85 per hour = $85 | $0 | $85 | $37,060

We estimate the following costs to do any necessary replacements that would be required based on the results of the proposed inspection. We have no way of determining the number of aircraft that might need these replacements:

On-Condition Costs
Action | Labor cost | Parts cost | Cost per product
Replacement per door | 3 work-hours × $85 per hour = $255 | $8,000 | $8,255
Stencil and index marker | 9 work-hours × $85 per hour = $765 | $0 | $765

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2013-0672; Directorate Identifier 2013-NM-058-AD.

(a) Comments Due Date

We must receive comments by August 18, 2014.

(b) Affected ADs

None.

(c) Applicability

This AD applies to The Boeing Company Model 767-200, -300, -300F, and -400ER series airplanes; certificated in any category; as identified in Boeing Service Bulletin 767-28-0105, Revision 1, dated February 6, 2013.

(d) Subject

Air Transport Association (ATA) of America Code 28, Fuel.

(e) Unsafe Condition

This AD was prompted by reports indicating that a standard access door was located where an impact-resistant access door was required, and stencils were missing from some impact-resistant access doors. We are issuing this AD to prevent foreign object penetration of the fuel tank from uncontained engine failure or tire debris, which could cause a fuel leak near an ignition source (e.g., hot brakes or engine nozzle), consequently leading to a fuel-fed fire.

(f) Compliance

Comply with this AD within the compliance times specified, unless already done.

(g) Inspections

Within 72 months after the effective date of this AD, do the actions specified in paragraphs (g)(1) and (g)(2) of this AD, in accordance with the Accomplishment Instructions of Boeing Service Bulletin 767-28-0105, Revision 1, dated February 6, 2013.

(1) Do either a general visual inspection or ultrasonic non-destructive test of the left- and right-hand wing fuel tank access doors to determine whether impact-resistant access doors are installed in the correct locations. If any standard access door is found, before further flight, replace with an impact-resistant access door.

(2) Do a general visual inspection of the left- and right-hand wing fuel tank impact-resistant access doors to verify stencils and index markers are applied. If a stencil or index marker is missing, before further flight, apply a stencil or index marker, as applicable.

(h) Maintenance or Inspection Program Revision

Within 60 days after the effective date of this AD, revise the maintenance or inspection program, as applicable, to incorporate critical design configuration control limitation (CDCCL) Task 57-AWL-01, “Impact-Resistant Fuel Tank Access Door,” of Section 9, Airworthiness Limitations (AWLs) and Certification Maintenance Requirements (CMRs) of Boeing 767 Maintenance Planning Data Document D622T001-9, Revision January 2013.

(i) No Alternative Actions, Intervals, and/or CDCCLs

After accomplishing the revision required by paragraph (h) of this AD, no alternative actions (e.g., inspections), intervals, and/or CDCCLs may be used unless the actions, intervals, and/or CDCCLs are approved as an alternative method of compliance (AMOC) in accordance with the procedures specified in paragraph (k) of this AD.

(j) Credit for Previous Actions

This paragraph provides credit for the actions required by paragraph (g) of this AD, if those actions were performed before the effective date of this AD using Boeing Service Bulletin 767-28-0105, dated January 12, 2012, which is not incorporated by reference in this AD.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs for ADs 2008-11-01 R1, Amendment 39-16145 (74 FR 68515, December 28, 2009); 2010-06-10, Amendment 39-16234 (75 FR 15322, March 29, 2010); or 2011-25-05, Amendment 39-16881 (77 FR 2442, January 18, 2012); that meet the conditions specified in paragraphs (k)(4)(i) and (k)(4)(ii) of this AD are approved as AMOCs for the corresponding provisions of paragraph (h) of this AD.

(i) AMOCs that are approved after November 2, 2012.

(ii) AMOCS that include incorporation of CDCCL Task 57-AWL-01, “Impact-Resistant Fuel Tank Access Door.”

(l) Related Information

(1) For more information about this AD, contact Suzanne Lucier, Aerospace Engineer, Propulsion Branch, ANM-140S, FAA, Seattle Aircraft Certification Office, 1601 Lind Avenue SW., Renton, WA 98057-3356; phone: 425-917-6438; fax: 425-917-6590; email: suzanne.lucier@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on June 25, 2014.
Jeffrey E. Duven,
Manager, Transport Airplane Directorate, Aircraft Certification Service.

[FR Doc. 2014-15530 Filed 7-1-14; 8:45 am]

BILLING CODE 4910-13-P